DEPARTMENT OF TRANSPORTATION

Federal Railroad Administration

[Docket Number FRA-2014-0078]

Notice of Petition for Approval of a Railroad Safety Program Plan

The Federal Railroad Administration (FRA) is providing notice that it has received a petition for approval of a Railroad Safety Program Plan (RSPP) submitted pursuant to Title 49 Code of Federal Regulations Part 236, Subpart H, Standards for Processor-Based Signal and Train Control Systems. The petition is listed below, including the party seeking approval, and the requisite docket number. FRA is not accepting comments on this RSPP.

The Canadian Pacific Railway Company submitted a petition for approval of an RSPP. The petition, the RSPP, and any related documents have been placed in the requisite docket (FRA-2014-0078) and are available for public inspection.

Interested parties are invited to review the RSPP and associated documents at the U.S. Department of Transportation's Docket Operations Facility, 1200 New Jersey Avenue SE., W12-140, Washington, DC 20590. The Docket Operations Facility is open from 9 a.m. to 5 p.m., Monday through Friday, except on Federal Holidays. All documents in the public docket are available for inspection and copying on the Internet at http://www.regulations.gov.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

Issued in Washington, DC, on September 4, 2014.
Ron Hynes,
Director, Office of Safety Assurance and Compliance.

[FR Doc. 2014-21614 Filed 9-10-14; 8:45 am]

BILLING CODE 4910-06-P